ENVIRONMENTAL PROTECTION AGENCY

[ER-FRL-9039-9]

Environmental Impact Statements; Notice of Availability

Responsible Agency: Office of Federal Activities, General Information (202) 564-7156 or https://www2.epa.gov/nepa/.

Weekly receipt of Environmental Impact Statements

Filed 06/11/2018 Through 06/15/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180133, Draft, NMFS, MA, Draft Environmental Impact Statement for Draft Amendment 22 to the Northeast Multispecies Fishery Management Plan, Comment Period Ends: 08/06/2018, Contact: Peter Burns (978) 281-9144.

EIS No. 20180134, Final, USFS, AZ, Final Programmatic Environmental Impact Statement for Revision of the Coronado National Forest Land and Resource Management Plan, Review Period Ends: 09/20/2018, Contact: Rose Robinson (520) 388-8491.

EIS No. 20180135, Final, USAF, CA, KC-46A Main Operating Base #4 (MOB 4) Beddown, Review Period Ends: 07/23/2018, Contact: Jean Reynolds (210) 925-4534.

EIS No. 20180136, Final Supplement, USACE, AK, Alaska Stand Alone Pipeline Project, Review Period Ends: 07/23/2018, Contact: Jason Berkner (907) 753-5778.

EIS No. 20180137, Final, BLM, WY, Normally Pressured Lance Natural Gas Development Project, Review Period Ends: 07/23/2018, Contact: Kellie Roadifer (307) 367-5309.

EIS No. 20180138, Draft, USFS, CA, Eldorado National Forest Over Snow Vehicle Use Designation, Comment Period Ends: 08/06/2018, Contact: Jennifer Marsolais (530) 642-5187.

EIS No. 20180139, Final, USFS, CA, Bordertown to California 120kV Transmission Line, Review Period Ends: 07/23/2018, Contact: Marnie Bonesteel (775) 352-1240.

Amended Notice

Revision to the Federal Register Notice published 05/21/2018, extend comment period from 07/05/2018 to 07/20/2018.

EIS No. 20180102, Draft, NMFS, FL, Coral Habitat Areas. Considered for Habitat Areas of Particular Concern Designation in the Gulf of Mexico, Contact: Lauren Waters (727) 209-5991.

Dated: June 18, 2018.
Robert Tomiak,
Director, Office of Federal Activities.

[FR Doc. 2018-13372 Filed 6-21-18; 8:45 am]

BILLING CODE 6560-50-P